SMALL BUSINESS ADMINISTRATION

[Declaration of Disaster #3403]

Commonwealth of Virginia

As a result of the President's major disaster declaration on April 2, 2002, I find that Dickenson, Lee, Russell, Scott, Smyth, Tazewell, Washington and Wise Counties and the Independent City of Norton in the Commonwealth of Virginia constitute a disaster area due to damages caused by severe storms and flooding occurring on March 17 through March 20, 2002. Applications for loans for physical damage as a result of this disaster may be filed until the close of business on June 1, 2002 and for economic injury until the close of business on January 2, 2003 at the address listed below or other locally announced locations:

U.S. Small Business Administration, Disaster Area 1 Office, 360 Rainbow Blvd., South 3rd Fl., Niagara Falls, NY 14303-1192

In addition, applications for economic injury loans from small businesses located in the following contiguous counties may be filed until the specified date at the above location: Bland, Buchanan, Grayson and Wythe counties and the Independent City of Bristol in the Commonwealth of Virginia; Bell, Harlan, Letcher and Pike counties in the State of Kentucky; Claiborne, Hancock, Hawkins, Johnson and Sullivan counties in the State of Tennessee; McDowell and Mercer counties in the State of West Virginia.

The interest rates are:

| Percent
For Physical Damage:
Homeowners with Credit Available Elsewhere | 6.625
Homeowners without Credit Available Elsewhere | 3.312
Businesses with Credit Available Elsewhere | 7.000
Businesses and Non-Profit Organizations without Credit Available Elsewhere | 3.500
Others (Including Non-Profit Organizations) with Credit Available Elsewhere | 6.375
For Economic Injury: Businesses and Small Agricultural Cooperatives Without Credit Available Elsewhere | 3.500

The number assigned to this disaster for physical damage is 340311. For economic injury the number is 9P1400 for Virginia; 9P1500 for Kentucky; 9P1600 for Tennessee; and 9P1700 for West Virginia.

(Catalog of Federal Domestic Assistance Program Nos. 59002 and 59008)
Dated: April 8, 2002.
Herbert L. Mitchell,
Associate Administrator, for Disaster Assistance.

[FR Doc. 02-9076 Filed 4-12-02; 8:45 am]

BILLING CODE 8025-01-P